COMMISSION ON CIVIL RIGHTS

Agenda and Notice of Public Meeting of the California Advisory Committee

Notice is hereby given, pursuant to the provisions of the rules and regulations of the U.S. Commission on Civil Rights, that a planning meeting with briefing of the California Advisory Committee to the Commission will convene at 8:00 p.m. and recess at 10:00 p.m. on Wednesday, July 24, 2002, at the Crown Plaza Hotel/Union Square, 480 Sutter Street, San Francisco, California 94108. The Committee will discuss format and procedures for conducting a briefing. The Committee will reconvene on Thursday, July 25, 2002, at 9:00 a.m. and adjourn at 3:00 p.m., to be briefed by community leaders and public officials on racial profiling.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, June 10, 2002.
Ivy L. Davis,
Chief, Regional Programs Coordination Unit.

[FR Doc. 02-15126 Filed 6-14-02; 8:45 am]

BILLING CODE 6335-01-P